ENVIRONMENTAL PROTECTION AGENCY

[ER-FRL-9036-5]

Environmental Impact Statements; Notice of Availability

Responsible Agency: Office of Federal Activities, General Information (202) 564-7146 or http://www2.epa.gov/nepa/.

Weekly receipt of Environmental Impact Statements (EIS).

Filed 11/27/2017 Through 12/01/2017

Pursuant to 40 CFR 1506.9.

Notice

Section 309(a) of the Clean Air Act requires that EPA make public its comments on EISs issued by other Federal agencies. EPA's comment letters on EISs are available at: https://cdxnodengn.epa.gov/cdx-nepa-public/action/eis/search.

EIS No. 20170236, Draft, USAF, NV, Nevada Test and Training Range (NTTR) Land Withdrawal, Comment Period Ends: 03/08/2018, Contact: Mike Ackerman (210) 925-2741.

EIS No. 20170237, Final, TVA, KY, Shawnee Fossil Plant Coal Combustion Residual Management, Review Period Ends: 01/07/2018, Contact: Ashley Pilakowski (865) 632-2256.

Dated: December 5, 2017.
Kelly Knight,
Director, NEPA Compliance Division, Office of Federal Activities.

[FR Doc. 2017-26490 Filed 12-7-17; 8:45 am]

BILLING CODE 6560-50-P